DEPARTMENT OF ENERGY

Federal Energy Regulatory Commission

Combined Notice of Filings #2

Take notice that the Commission received the following electric corporate filings:

Docket Numbers: EC17-42-000.

Applicants: 96WI 8ME, LLC.

Description: Clarification Letter to December 2, 2016 Application for Authorization for Disposition of Jurisdictional Facilities and Request for Expedited Action of 96WI 8ME, LLC.

Filed Date: 12/23/16.

Accession Number: 20161223-5345.

Comments Due: 5 p.m. ET 12/30/17.

Docket Numbers: EC17-53-000.

Applicants: The Potomac Edison Company.

Description: Application of The Potomac Edison Company for Authorization Pursuant to Section 203(A)(1)(B) of the Federal Power Act and Request for Limited Waiver of the Part 33 Filing Requirements.

Filed Date: 12/23/16.

Accession Number: 20161223-5335.

Comments Due: 5 p.m. ET 1/13/17.

Docket Numbers: EC17-54-000.

Applicants: West Penn Power Company.

Description: Application of West Penn Power Company for Authorization Pursuant to Section 203(A)(1)(B) of the Federal Power Act and Request for Limited Waiver of the Part 33 Filing Requirements.

Filed Date: 12/23/16.

Accession Number: 20161223-5336.

Comments Due: 5 p.m. ET 1/13/17.

Docket Numbers: EC17-55-000.

Applicants: Monongahela Power Company.

Description: Application of Monongahela Power Company for Authorization Pursuant to Section 203(A)(1)(B) of the Federal Power Act and Request for Limited Waiver of the Part 33 Filing Requirements.

Filed Date: 12/23/16.

Accession Number: 20161223-5337.

Comments Due: 5 p.m. ET 1/13/17.

Docket Numbers: EC17-56-000.

Applicants: Metropolitan Edison Company.

Description: Application of Metropolitan Edison Company for Authorization Pursuant to Section 203(A)(1)(B) of the Federal Power Act and Request for Limited Waiver of the Part 33 Filing Requirements.

Filed Date: 12/23/16.

Accession Number: 20161223-5338.

Comments Due: 5 p.m. ET 1/13/17.

Docket Numbers: EC17-57-000.

Applicants: Pennsylvania Electric Company.

Description: Application of Pennsylvania Electric Company for Authorization Pursuant to Section 203(A)(1)(B) of the Federal Power Act and Request for Limited Waiver of the Part 33 Filing Requirements.

Filed Date: 12/23/16.

Accession Number: 20161223-5339.

Comments Due: 5 p.m. ET 1/13/17.

Take notice that the Commission received the following electric rate filings:

Docket Numbers: ER10-2124-016.

Applicants: Spring Canyon Energy LLC.

Description: Triennial Report for the Northwest Region of Spring Canyon Energy LLC.

Filed Date: 12/23/16.

Accession Number: 20161223-5331.

Comments Due: 5 p.m. ET 2/21/17.

Docket Numbers: ER10-2125-017.

Applicants: Judith Gap Energy LLC.

Description: Triennial Report for the Northwest Region of Judith Gap Energy LLC.

Filed Date: 12/23/16.

Accession Number: 20161223-5330.

Comments Due: 5 p.m. ET 2/21/17.

Docket Numbers: ER10-2128-016.

Applicants: Wolverine Creek Energy LLC.

Description: Triennial Report for the Northwest Region of Wolverine Creek Energy LLC.

Filed Date: 12/23/16.

Accession Number: 20161223-5333.

Comments Due: 5 p.m. ET 2/21/17.

Docket Numbers: ER10-2129-012.

Applicants: Grays Harbor Energy LLC.

Description: Triennial Report for the Northwest Region of Grays Harbor Energy LLC.

Filed Date: 12/23/16.

Accession Number: 20161223-5343.

Comments Due: 5 p.m. ET 2/21/17.

Docket Numbers: ER10-2132-016.

Applicants: Willow Creek Energy LLC.

Description: Triennial Report for the Northwest Region of Willow Creek Energy LLC.

Filed Date: 12/23/16.

Accession Number: 20161223-5329.

Comments Due: 5 p.m. ET 2/21/17.

Docket Numbers: ER10-2135-012.

Applicants: Spindle Hill Energy LLC.

Description: Triennial Report for the Northwest Region of Spindle Hill Energy LLC.

Filed Date: 12/23/16.

Accession Number: 20161223-5332.

Comments Due: 5 p.m. ET 2/21/17.

Docket Numbers: ER10-2727-004; ER10-2729-006; ER10-1469-005; ER13-785-004; ER10-1453-005; ER13-713-004; ER10-1459-009; ER10-2728-006; ER10-1451-004; ER10-1474-004; ER10-2687-004; ER10-1467-005; ER10-1478-006; ER10-1473-004; ER10-2688-007; ER10-1468-005; ER10-2689-007.

Applicants: Allegheny Energy Supply Company, LLC, Buchanan Generation, LLC, The Cleveland Electric Illuminating Company, FirstEnergy Generation, LLC, FirstEnergy Generation Mansfield Unit 1 Corp., FirstEnergy Nuclear Generation, LLC, FirstEnergy Solutions Corp., Green Valley Hydro, LLC, Jersey Central Power & Light, Metropolitan Edison Company, Monongahela Power Company, Ohio Edison Company, Pennsylvania Electric Company, Pennsylvania Power Company, The Potomac Edison Company, The Toledo Edison Company, West Penn Power Company.

Description: Triennial Market Power Update Analysis of FirstEnergy Companies.

Filed Date: 12/23/16.

Accession Number: 20161223-5346.

Comments Due: 5 p.m. ET 2/21/17.

Docket Numbers: ER10-2764-016.

Applicants: Vantage Wind Energy LLC.

Description: Triennial Report for the Northwest Region of Vantage Wind Energy LLC.

Filed Date: 12/23/16.

Accession Number: 20161223-5342.

Comments Due: 5 p.m. ET 2/21/17.

Docket Numbers: ER16-1720-002.

Applicants: Invenergy Energy Management LLC.

Description: Triennial Report for the Northwest Region of Invenergy Energy Management LLC.

Filed Date: 12/23/16.

Accession Number: 20161223-5341.

Comments Due: 5 p.m. ET 2/21/17.

Docket Numbers: ER16-2186-000.

Applicants: Deseret Generation & Transmission Co-operative, Inc.

Description: Response to December 12, 2016 Request for Additional Information of Deseret Generation & Transmission Co-operative, Inc.

Filed Date: 12/23/16.

Accession Number: 20161223-5347.

Comments Due: 5 p.m. ET 1/13/17.

Docket Numbers: ER17-679-000.

Applicants: Western Interconnect LLC.

Description: § 205(d) Rate Filing: Commencement Date Revision Filing to be effective 12/28/2016.

Filed Date: 12/27/16.

Accession Number: 20161227-5053.

Comments Due: 5 p.m. ET 1/17/17.

Docket Numbers: ER17-680-000.

Applicants: ISO New England Inc., New England Power Pool Participants Committee.

Description: § 205(d) Rate Filing: Part 1 of Two-Part Filing of NCPC Rule Revisions for Sub-Hourly Settlement to be effective 3/1/2017.

Filed Date: 12/27/16.

Accession Number: 20161227-5056.

Comments Due: 5 p.m. ET 1/17/17.

Docket Numbers: ER17-680-001.

Applicants: ISO New England Inc., New England Power Pool Participants Committee.

Description: Tariff Amendment: Part 2 of Two-Part Filing of NCPC Rule Revisions for Sub-Hourly Settlement to be effective 3/31/2017.

Filed Date: 12/27/16.

Accession Number: 20161227-5057.

Comments Due: 5 p.m. ET 1/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2016.
Kimberly D. Bose,
Secretary.

[FR Doc. 2016-31841 Filed 1-3-17; 8:45 am]

BILLING CODE 6717-01-P